DEPARTMENT OF JUSTICE

Office of Justice Programs

[OMB Number 1121-0329]

Agency Information Collection Activities; Proposed eCollection; eComments Requested; Substantive Revision of Previously Approved Collection OJP Solicitation Template

AGENCY: Office of Justice Programs, Department of Justice.

ACTION: 60-Day notice.

SUMMARY: The Department of Justice (DOJ), Office of Justice Programs (OJP), will be submitting the following information collection request to the Office of Management and Budget (OMB) for review and approval in accordance with the Paperwork Reduction Act of 1995.

DATES: Comments are encouraged and will be accepted for 60 days until August 15, 2017.

FOR FURTHER INFORMATION CONTACT: If you have additional comments especially on the estimated public burden or associated response time, suggestions, or need a copy of the proposed information collection instrument with instructions or additional information, please contact Maria Swineford, (202) 616-0109, Office of Audit, Assessment, and Management, Office of Justice Programs, U.S. Department of Justice, 810 Seventh Street NW., Washington, DC 20531 or maria.swineford@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Substantive Revision to 1121-0329.

2. The Title of the Form/Collection: OJP Solicitation Template.

3. The agency form number, if any, and the applicable component of the Department sponsoring the collection: No form number available. Office of Justice Programs, Department of Justice.

4. Affected public who will be asked or required to respond, as well as a brief abstract: The primary respondents are state agencies, tribal governments, local governments, colleges and universities, non-profit organizations, for-profit organizations, and faith-based organizations. The purpose of the solicitation template is to provide a framework to develop program-specific announcements soliciting applications for funding. A program solicitation outlines the specifics of the funding program; describes requirements for eligibility; instructs an applicant on the necessary components of an application under a specific program (e.g., project activities, project abstract, project timeline, proposed budget, etc.); outlines program evaluation and performance measures; explains selection criteria and the review process; and provides registration dates, deadlines, and instructions on how to apply within the designated application system.

The substantive revision to this collection include three items: (1) The OJP Budget Detail Worksheet; (2) the Coordinated Tribal Assistance Solicitation (CTAS) Tribal Narrative Profile, Budget Detail Worksheet and Demographic Form; and (3) the Financial Management and System of Internal Controls Questionnaire (FCQ).

The now mandatory OJP Budget Detail Worksheet (BDW) will be streamlined and automated with the intent of reducing the burden on public submissions. The current PDF format will be converted to Excel, providing ease of entry and more accurate detail of budget information. Additionally, the BDW has taken the “consultant/contracts” section and broken the details out into two separate sections, “subrecipient/subgrants” and “procurement contracts” to better categorize the details of proposed consultants. Updated and clearer guidance will also be added to better explain how to complete the BDW and the level of detail required in each section.

The Coordinated Tribal Assistance Solicitation (CTAS) Tribal Community and Justice Profile is designed to allow the tribe to describe its community strengths, resources, challenges, and needs. The applicant may enter as much or as little text as needed to fully describe the community. The CTAS BDW and Demographics Form will be updated to align with the BDW streamlining and automation efforts. In addition to those revisions, the Demographics section of the CTAS BDW is designed to capture the unique characteristics of each tribe in order to paint a more detailed picture of each tribe's strengths and challenges. It requests applicants to provide information regarding tribe information; Uniform Crime Report data; law enforcement information; and facilities, capacities, and capabilities information.

The revised FCQ will include five new questions: Three which are required by legislation regarding nonprofit status; one which is simply a clarification of an existing approved question regarding subawards and procurement contracts; and one regarding executive compensation that is also required by legislation and was already part of the approved OJP solicitation template but was requiring a separate email submission to OJP. Adding it to the FCQ will save the applicant time and effort.

The primary respondents for all three revisions are the same, as listed above. While use of the CTAS BDW and Demographics form is not mandatory, it is required that all applicants ensure that all budget and demographic information requested in the form is included in whichever format the applicant choses to use. OJP intends to require the same with the OJP BDW. The FCQ is also required of all application submissions that do not already have an updated FCQ on file within the last 3 years.

5. An estimate of the total number of respondents and the amount of time estimated for an average respondent to respond: It is estimated that information will be collected annually from approximately 10,000 applicants. Annual cost to the respondents is based on the number of hours involved in preparing and submitting a complete application package. Mandatory requirements for an application under the OJP Standard Solicitation Template include a program narrative; budget details and narrative, via the OJP standard BDW; Applicant Disclosure of Pending Applications; Applicant Disclosure of High Risk Status; and the FCQ. With the exception of the Tribal Narrative Profile and added Demographic form, the mandatory requirements for an application under the CTAS Solicitation Template are the same as those for OJP. Optional requirements can be made mandatory depending on the type of program to include, but not limited to: Project abstract, indirect cost rate agreement, tribal authorizing resolution, timelines, logic models, memoranda of understanding, letters of support, resumes, and research and evaluation independence and integrity. Public reporting burden for this collection of information is estimated at up to 32 hours per application. The 32-hour estimate is based on the amount of time to prepare a research and evaluation proposal, one of the most time intensive types of application solicited by OJP. The estimate of burden hours is based on OJP's prior experience with the research application submission process.

6. An estimate of the total public burden (in hours) associated with the collection: The estimated public burden associated with this application is 320,000 hours.

If additional information is required contact: Melody Braswell, Department Clearance Officer, United States Department of Justice, Justice Management Division, Policy and Planning Staff, Two Constitution Square, 145 N Street NE., 3E.405A, Washington, DC 20530.

Dated: June 12, 2017.
Melody Braswell,
Department Clearance Officer for PRA, U.S. Department of Justice.

[FR Doc. 2017-12468 Filed 6-15-17; 8:45 am]

BILLING CODE 4410-18-P